DEPARTMENT OF AGRICULTURE

Forest Service

Fishlake National Forest; Utah; Oil and Gas Leasing EIS

AGENCY: Forest Service, USDA.

ACTION: Corrected Notice of Intent to prepare an environmental impact statement for the Oil and Gas Leasing Analysis. The original notice was published on July 7, 2006.

SUMMARY: The Fishlake National Forest (FNF) is preparing an environmental impact statement (EIS) to disclose the potential effects of a proposal to make lands administered by the FNF available for oil and gas leasing, and to determine what lease stipulations would apply to those lands. The proposal also includes amending the FNF Land and Resource Management Plan (LRMP) to update management direction for minerals management, specifically oil and gas. The scope of the analysis is forest-wide. A Notice of Intent (NOI) was first published for this proposal on July 7, 2006, Volume 71, No. 130, pages 38602-38604. Due to the length of time that has passed since the first NOI was published, the FNF is publishing this Corrected NOI.

DATES: Comments concerning the scope of the analysis were received during the initial scoping period in 2006, and are being considered in the preparation of this EIS. New or additional comments should be received within 30 days from the publication of this notice in the Federal Register. The draft EIS is expected April 2011 and the final EIS is expected October 2011.

ADDRESSES: Send written comments to Shelly Dyke, Team Leader, Fishlake National Forest, 115 E. 900 North, Richfield, Utah 84701; phone (801) 597-7633; fax (435) 896-0374; e-mail: forest_service_act2@fs.fed.us. Comments may also be sent via e-mail to sdyke@fs.fed.us. Please include “Oil and Gas Leasing Analysis” on the subject line.

It is important that reviewers provide their comments at such times and in such a way that they are useful to the Agency's preparation of the EIS. Therefore, comments should clearly articulate the reviewer's concerns and contentions.

Comments received, including names and addresses of those who comment, will be part of the public record for this proposed action. Comments submitted anonymously will be accepted and considered, however those who submit comments anonymously would not be considered to have standing in the process. Those who commented during the initial scoping period need not resubmit comments, unless there are additional comments they wish to make.

FOR FURTHER INFORMATION CONTACT: John Zappell, Public Affairs Officer at (435) 896-1070.

Technical Contact: Diane Freeman, Ecosystem Staff Officer at (435) 896-1050.

SUPPLEMENTARY INFORMATION:

Purpose and Need for Action

Agency regulations at 36 CFR 228.102 require the Forest Service to analyze lands under their jurisdiction that have not already been analyzed for oil and gas leasing. None of the lands administered by the FNF have previously been analyzed for oil and gas leasing. In analyzing lands for oil and gas leasing, the Forest Service must comply with the National Environmental Policy Act (NEPA). The Federal Onshore Oil and Gas Leasing Reform Act (FOOGLRA) of 1987 establishes consent authority to the Forest Service for leasing, prior to the Bureau of Land Management (BLM) offering National Forest System lands for lease. The BLM Utah State Office has received several Expressions of Interest (EOI) for leasing portions of the FNF. In order to facilitate the BLM processing and responding to those EOIs, the FNF must first complete a leasing analysis to determine which lands to identify for leasing, and what additional stipulations, if any would apply to those lands. Finally, the FNF LRMP has not yet been revised; therefore an amendment is needed to update direction for protecting surface resources relative to minerals management, specifically oil and gas exploration and development.

The purpose of this leasing analysis is to identify which lands would be available and approved for oil and gas leasing, to determine what standard or special lease stipulations would apply to which pieces of land for resource protection, to project the type and amount of post-leasing activity that would be reasonably foreseeable, and to analyze the potential impacts of reasonably foreseeable post-leasing activity.

Proposed Action

The proposed action is to make all lands administered by the FNF available for lease. The following areas would be leased with the No Surface Occupancy (NSO) stipulation: All Research Natural Areas; Quitchupah Canyon Cultural Area; Areas with slopes greater than 35 percent; North Horn sediment areas greater than 25 percent slope; Habitat within one mile of known threatened, endangered, or proposed (TEP) plants; Habitat of TEP species covered under a conservation agreement or recovery plan; Areas within 300 feet of riparian areas, wetlands, lakes, reservoirs, perennial streams, and springs; Municipal water source protection areas; Bald eagle winter concentration areas; Sage grouse leks and nesting habitat; Known colonies of pygmy rabbits; Key habitats for boreal toad; Developed recreation sites; Areas with a Primitive Recreation Opportunity Spectrum; Forest Service administrative sites and facilities; National Recreation Trails; Inventoried Roadless Areas as identified in the 2001 Roadless Area Conservation Rule.

The following areas would be leased with a Timing Limitation (TL) stipulation: Sage grouse brood-rearing areas (May 1 to July 5); Goshawk nesting and nest replacement areas (March 1 to September 30); Big game wintering areas (January 1 to April 15); Big game calving and fawning areas (May 1 to July 5).

The following areas would be leased with the Controlled Surface Use (CSU) stipulation:

Unstable lands; Sensitive plant habitat within one mile of known sites; Campground water systems; Goshawk post-fledging areas; Raptor nest areas; High scenic integrity areas (including areas seen from Capital Reef National Park and Fremont Indian State Park); Areas with a Semi-Primitive Non-motorized Recreation Opportunity Spectrum; Air quality non-attainment areas; Cultural resource areas.

All other areas would be leased with standard lease terms and conditions. Lease notices (LN) would be included in leases to inform prospective bidders of restrictions required by law or regulation.

Possible Alternatives

In addition to the Proposed Action, the No Action alternative will be analyzed in detail. Under this alternative oil and gas leasing would occur under current management direction. Other alternatives could include a range of more restrictive lease stipulations placed on more acreage, and/or fewer acres approved for lease availability.

Lead and Cooperating Agencies

The USDA Forest Service is the lead agency. The USDI Bureau of Land Management, and the State of Utah are cooperating agencies.

Responsible Official

The responsible official is the Forest Supervisor of the Fishlake National Forest.

Nature of Decision To Be Made

The Forest Supervisor of the Fishlake National Forest will decide which lands administered by the FNF will be administratively available for oil and gas leasing, and what stipulations would be applied to future leases. The Forest Supervisor will also decide whether to approve a non-significant Forest Plan amendment to update management direction for leasable minerals. This decision will not result in ground-disturbing activities such as exploration, drilling, or field development. Any ground disturbing activity that may be proposed subsequent to leasing would require further site-specific review and environmental analysis prior to approval as outlined in current Federal regulations (36 CFR 228.107).

Scoping Process

The initial scoping period started when the NOI was published in 2006. There is an opportunity to submit additional comments not already submitted, for 30 days after publication of this Corrected NOI.

A series of public meetings were held in July and August, 2006. No additional public meetings are planned at this time. The proposal has been listed on the FNF Schedule of Proposed Actions since 2006.

Dated: January 6, 2011.
Joseph G. Reddan,
Acting Forest Supervisor.

[FR Doc. 2011-886 Filed 1-14-11; 8:45 am]

BILLING CODE 3410-11-P